DEPARTMENT OF AGRICULTURE

Economic Research Service

Notice of Intent to Seek Approval to Collect Information

AGENCY: Economic Research Service, USDA.

ACTION: Notice and request for comments.

SUMMARY: In accordance with the Paperwork Reduction Act of 1995 (Pub L. 104-13) and Office of Management and Budget (OMB) regulations at 5 CFR part 1320 (60 FR 44978, August 29, 1995), this notice announces the Economic Research Service's (ERS) intention to request approval for a new information collection from State officials in the Special Supplemental Nutrition Program for Women, Infants, and Children (WIC); local WIC agencies; State Medicaid officials; and Medicaid Managed Care Organizations (MCO).

DATES: Written comments on this notice must be received by July 7, 2003, to be assured of consideration.

ADDITIONAL INFORMATION OR COMMENTS: Requests for additional information regarding this notice should be directed to Alex Majchrowicz, Food Assistance Branch, Food and Rural Economics Division, Economic Research Service, U.S. Department of Agriculture, 1800 M St. NW., Washington, DC 20036-5831. Submit electronic comments to ALEXM@ers.usda.gov. or telephone 202-694-5355.

SUPPLEMENTARY INFORMATION: Title: An Assessment of the Impact of Medicaid Managed Care on WIC Program Coordination with Primary Care Services.

OMB Number: Not yet issued.

Expiration Date: Two years from date of issuance.

Type of Request: Approval to collect information from State WIC officials; local WIC agencies; State Medicaid officials; and Medicaid Managed Care Organizations (MCO).

Abstract: USDA's Economic Research Service (ERS) seeks detailed information that will determine the impact Medicaid managed care may have on the ability of the Special Supplemental Nutrition Program for Women, Infants, and Children (WIC) to coordinate services with primary care providers. The WIC program is a supplemental nutrition program providing supplemental foods, nutrition education, and referral to health care services for pregnant and breastfeeding women, infants, and children up to age five. The program is designed to serve as an adjunct to the health care delivery system for clients with an identified nutritional/ medical risk. In the past, State and local WIC programs have worked with the Public Health Departments and other direct primary care providers to ensure that clients have access to appropriate health care services. State Medicaid programs have been a major provider of health care services to these women, infants, and children. However, it is unknown how the movement of Medicaid programs to managed care has changed the dynamics of the WIC program's ability to coordinate with and refer to primary care services. This data collection effort will ensure that USDA can appropriately plan to assist State WIC programs in carrying out their mandate to refer clients to primary care services.

Toward this end, data will be collected from State WIC program officials, State Medicaid officials, selected local WIC agencies, and Managed Care Organizations (MCO). The data collection period is estimated to last one month for the State-level programs and an additional 6 weeks for the local WIC agencies and MCOs. To capture data about coordination of the WIC and Medicaid programs, a telephone survey of all WIC and Medicaid programs in the 50 States and District of Columbia will be conducted to determine the extent to which formal coordination efforts have been undertaken, and to describe the agreements, requirements, and incentives included in these efforts. The survey will be directed at the State WIC and Medicaid directors, or their designees responsible for coordination efforts.

To obtain more detailed information about coordination efforts and the manner in which they impact program operations, detailed case studies will be conducted in six selected States. The first step in the case study process will be to conduct a telephone survey of local WIC directors within each of the case study States to discuss how State-level efforts to coordinate services have been implemented locally. Second, a series of in-depth site visits will be conducted in (at maximum) two counties in each of the six States to visit all local WIC clinics and the MCOs with which they coordinate services. Criteria for selection of the counties will include such factors as number of clinics serving a particular geographic area, type of local agency sponsoring the clinics, caseload size and composition, types of managed care plans serving the area, and the type of coordination activity undertaken.

Two specific activities will comprise the in-depth site visits. Interviews with local clinic service delivery staff—clinic site managers, nutrition professionals, and WIC clerks—will be conducted. The results of these interviews will be used to enhance and supplement the results from the survey of local agency directors. At least three rural clinic sites will be selected among the six States. Also, in order to have a complete picture of efforts being made to coordinate WIC with Medicaid managed care services, interviews with key managed care plan officials will be conducted in conjunction with the visits to the local WIC clinics.

Estimated Number of Respondents: A combined total of 218 respondents are necessary to complete the questionnaires. An average of 51 questionnaires will be collected from State WIC officials and an additional 51 questionnaires from State Medicaid officials. Questionnaires will also be administered to up to 20 local WIC agencies in six States (with a maximum of 80 local agencies) and up to six MCOs in the same six States.

Number of Responses per Respondent: The individuals participating in the data collection effort will respond only once.

Estimated Total Responses: Maximum total number of responses: 218 (51 State WIC officials, 51 State Medicaid officials, 80 local WIC agencies, and 36 MCOs.)

Hours per Response: State WIC and Medicaid survey: 30 minutes. Local WIC agency and MCO: 45 minutes.

Total Reporting Hours: Maximum total reporting hours: 138 hours (51 State WIC offices @ 30 minutes + 51 State Medicaid offices @ 30 minutes + 80 local WIC agencies @ 45 minutes + 36 MCOs @ 45 minutes).

Comments: Comments are invited on (a) whether the proposed collection of information is necessary for the proper performance of the functions of the agency, including whether the information has practical utility; (b) the accuracy of the agency's estimate of the burden of the proposed collection of information, including the validity of the methodology and assumptions used; (c) ways to enhance the quality, utility and clarity of the information to be collected; (d) ways to minimize the burden of the collection of information on those who are to respond, including the use of appropriate automated, electronic, mechanical, or other technological collection techniques or other forms of information technology. Comments should be sent to the address stated in the preamble. All responses to this notice will be summarized and included in the request for OMB approval. All comments will also become a matter of public record.

Dated: April 27, 2003.
Susan Offutt,
Administrator, Economic Research Service, USDA.

[FR Doc. 03-10872 Filed 5-1-03; 8:45 am]

BILLING CODE 3410-18-P